DEPARTMENT OF TRANSPORTATION

Federal Aviation Administration

14 CFR Part 39

[Docket No. FAA-2017-1059; Product Identifier 2017-CE-035-AD]

RIN 2120-AA64

Airworthiness Directives; Piper Aircraft, Inc. Airplanes

AGENCY: Federal Aviation Administration (FAA), DOT.

ACTION: Notice of proposed rulemaking (NPRM).

SUMMARY: We propose to adopt a new airworthiness directive (AD) for certain Piper Aircraft, Inc. Models PA-28-140, PA-28-150, PA-28-160, PA-28-180, PA-28-235, PA-32-260, and PA-32-300 airplanes. This proposed AD was prompted by reports of corrosion found in an area of the main wing spar not easily accessible for inspection. This proposed AD would require installing an inspection access panel in the lower wing skin near the left and the right main wing spars if not already there, inspecting the left and the right main wing spars for corrosion, and taking all necessary corrective actions. We are proposing this AD to address the unsafe condition on these products.

DATES: We must receive comments on this proposed AD by December 22, 2017.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this NPRM, contact Piper Aircraft, Inc., 2926 Piper Drive, Vero Beach, Florida 32960; telephone: (772) 567-4361; Internet: www.piper.com. You may review this referenced service information at the FAA, Policy and Innovation Division, 901 Locust, Kansas City, Missouri 64106. For information on the availability of this material at the FAA, call (816) 329-4148.

Examining the AD Docket

You may examine the AD docket on the Internet at http://www.regulations.gov by searching for and locating Docket No. FAA-2017-1059 or in person at the Docket Management Facility between 9 a.m. and 5 p.m., Monday through Friday, except Federal holidays. The AD docket contains this NPRM, the regulatory evaluation, any comments received, and other information. The street address for the Docket Office (phone: 800-647-5527) is in the ADDRESSES section. Comments will be available in the AD docket shortly after receipt.

FOR FURTHER INFORMATION CONTACT: Dan McCully, Aerospace Engineer, FAA, Atlanta ACO Branch, 1701 Columbia Avenue, College Park, Georgia 30337; telephone: (404) 474-5548; fax: (404) 474-5606; email: william.mccully@faa.gov.

SUPPLEMENTARY INFORMATION:

Comments Invited

We invite you to send any written relevant data, views, or arguments about this proposal. Send your comments to an address listed under the ADDRESSES section. Include “Docket No. FAA-2017-1059; Product Identifier 2017-CE-035-AD” at the beginning of your comments. We specifically invite comments on the overall regulatory, economic, environmental, and energy aspects of this NPRM. We will consider all comments received by the closing date and may amend this NPRM because of those comments.

We will post all comments we receive, without change, to http://www.regulations.gov, including any personal information you provide. We will also post a report summarizing each substantive verbal contact we receive about this NPRM.

Discussion

We received two reports of significant corrosion found on the main wing spars on certain Piper Aircraft, Inc. Models PA-28-140, PA-28-150, PA-28-160, PA-28-180, PA-28-235, PA-32-260, and PA-32-300 airplanes. The corrosion was found during maintenance in an area that is not easily accessible for inspection. This condition, if not detected and corrected, could cause the main wing spar to fail. This failure could result in loss of control.

Related Service Information Under 1 CFR Part 51

We reviewed Piper Aircraft, Inc. Service Bulletin No. 1304, dated August 23, 2017. The service bulletin describes procedures for installing an inspection access panel in the lower wing skin near the left and the right main wing spars, if not already there, inspect for corrosion, and, if corrosion is found, taking all necessary corrective actions. This service information is reasonably available because the interested parties have access to it through their normal course of business or by the means identified in the ADDRESSES section.

FAA's Determination

We are proposing this AD because we evaluated all the relevant information and determined the unsafe condition described previously is likely to exist or develop in other products of the same type design.

Proposed AD Requirements

This proposed AD would require accomplishing the actions specified in the service information described previously.

Costs of Compliance

We estimate that this proposed AD affects 11,476 airplanes of U.S. registry.

We estimate the following costs to comply with this proposed AD:

Estimated costs
Action | Labor cost | Parts cost | Cost per product | Cost on U.S. operators
Main wing spar inspection | 2 work-hours × $85 per hour = $170 to inspect both wings | Not Applicable | $170 | $1,950,920

On-Condition Costs
Action | Labor cost | Parts cost | Cost per product
Install inspection access panel in the lower wing skin near the left and the right main wing spars | 6 work-hours × $85 per hour = $510 to install the inspection access panel on both wings | $175 for the kit that contains provisions for installing inspections access panels on both wings | $685

The scope of damage found in the required inspection could vary significantly from airplane to airplane. We have no way of determining how much damage may be found on each airplane or the cost to repair damaged parts on each airplane or the number of airplanes that may require repair.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes and domestic business jet transport airplanes to the Director of the Policy and Innovation Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Piper Aircraft, Inc.: Docket No. FAA-2017-1059; Product Identifier 2017-CE-035-AD.

(a) Comments Due Date

We must receive comments by December 22, 2017.

(b) Affected ADs

None.

(c) Applicability

This AD applies to the following Piper Aircraft, Inc. model airplanes that are certificated in any category:

Table 1 to Paragraph (c) of This AD—Affected Models and Serial Numbers
Model | Serial Nos.
PA-28-140 | 28-20001 through 28-26946, and 28-7125001 through 28-7725290.
PA-28-150 and PA-28-160 | 28-1 through 28-4377, and 28-1760A.
PA-28-180 | 28-671 through 28-5859, 28-7105001 through 28-7205318, and 28-7305001 through 28-7505261.
PA-28-235 | 28-10001 through 28-11378, 28-7110001 through 28-7710089, and 28E-11.
PA-32-260 | 32-04, 32-1 through 32-1297, and 32-7100001 through 32-7800008.
PA-32-300 | 32-15, 32-21, 32-40000 through 32-40974, and 32-7140001 through 32-7840222.

(d) Subject

Joint Aircraft System Component (JASC)/Air Transport Association (ATA) of America Code 5711, Wing Spar.

(e) Unsafe Condition

This AD was prompted by reports of corrosion found in an area of the main wing spar not easily accessible for inspection. We are issuing this AD to detect and correct corrosion in the wing root area of the left and the right main wing spars. The unsafe condition, if not detected and corrected, could cause the main wing spar to fail, which could result in loss of control.

(f) Compliance

Comply with this AD within the compliance times specified, unless already done.

(g) Determine if Inspection Access Panels Are Already Present

Within the next 100 hours time-in-service (TIS) after the effective date of this AD or within the next 12 months after the effective date of this AD, whichever occurs first, inspect the lower wing skin near the main wing spar on both wings for the presence of an inspection access panel using Part I of the Instructions section of Piper Aircraft, Inc. (Piper) Service Bulletin (SB) No. 1304, dated August 23, 2017.

(h) Install Inspection Access Panels

If it is determined that no inspection access panels are present during the inspection required in paragraph (g) of this AD, within the next 100 hours TIS after the effective date of this AD or within the next 12 months after the effective date of this AD, whichever occurs first install inspection access panels on the lower skin of the left wing and the right wing using Piper SB No. 1304, dated August 23, 2017.

(i) Inspect for Corrosion

Within the next 100 hours TIS after the effective date of this AD or within the next 12 months after the effective date of this AD, whichever occurs first, inspect the left and the right main wing spar for any evidence of corrosion using Part I of the Instructions section of Piper SB No. 1304, dated August 23, 2017.

(j) Corrective Actions

Before further flight after the inspection required in paragraph (i) of this AD, if evidence of corrosion is found, take all necessary corrective actions to remove the corrosion using Part I of the Instructions section of Piper SB No. 1304, dated August 23, 2017, and/or make all necessary repairs using Part II of the Instructions section of Piper SB No. 1304, dated August 23, 2017.

(k) Alternative Methods of Compliance (AMOCs)

(1) The Manager, Atlanta ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (l)(1) of this AD.

(2) Before using any approved AMOC, notify your appropriate principal inspector, or lacking a principal inspector, the manager of the local flight standards district office/certificate holding district office.

(3) For service information that contains steps that are labeled as Required for Compliance (RC), the provisions of paragraphs (g) through (j) of this AD apply.

(i) The steps labeled as RC, including substeps under an RC step and any figures identified in an RC step, must be done to comply with the AD. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

(1) For more information about this AD, contact Dan McCully, Aerospace Engineer, FAA, Atlanta ACO Branch, 1701 Columbia Avenue, College Park, Georgia 30337; telephone: (404) 474-5548; fax: (404) 474-5606; email: william.mccully@faa.gov.

(2) For service information identified in this AD, contact Piper Aircraft, Inc., 2926 Piper Drive, Vero Beach, Florida 32960; telephone: (772) 567-4361; Internet: www.piper.com. You may review this referenced service information at the FAA, Policy and Innovation Division, 901 Locust, Kansas City, Missouri 64106. For information on the availability of this material at the FAA, call (816) 329-4148.

Issued in Kansas City, Missouri, on October 30, 2017.
Melvin J. Johnson,
Acting Deputy Director, Policy & Innovation Division, Aircraft Certification Service.

[FR Doc. 2017-24083 Filed 11-6-17; 8:45 am]

BILLING CODE 4910-13-P